DEPARTMENT OF DEFENSE

Defense Acquisition Regulations System

48 CFR Part 207

RIN 0750-AF39

Defense Federal Acquisition Regulation Supplement; Lease of Vessels, Aircraft, and Combat Vehicles (DFARS Case 2006-D013)

AGENCY: Defense Acquisition Regulations System, Department of Defense (DoD).

ACTION: Proposed rule with request for comments.

SUMMARY: DoD is proposing to amend the Defense Federal Acquisition Regulation Supplement (DFARS) to address statutory provisions relating to leasing. The proposed rule permits the lease of a vessel, aircraft, or combat vehicle only if the contract will be long-term or will provide for a substantial termination liability.

DATES: Comments on the proposed rule should be submitted in writing to the address shown below on or before July 23, 2007, to be considered in the formation of the final rule.

ADDRESSES: You may submit comments, identified by DFARS Case 2006-D013, using any of the following methods:

• Federal eRulemaking Portal: http://www.regulations.gov. Follow the instructions for submitting comments.

• E-mail: dfars@osd.mil. Include DFARS Case 2006-D013 in the subject line of the message.

• Fax: (703) 602-7887.

• Mail: Defense Acquisition Regulations System, Attn: Mr. Gary Delaney, OUSD (AT&L) DPAP(DARS), IMD 3C132, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Mr. Gary Delaney, (703) 602-8384.

SUPPLEMENTARY INFORMATION:

A. Background

10 U.S.C. 2401, as amended by Section 815 of the National Defense Authorization Act for Fiscal Year 2006 (Pub. L. 109-163), permits DoD to award a contract for the lease of a vessel, aircraft, or combat vehicle only if the contract will be long-term or will provide for a substantial termination liability, and if the Secretary concerned fulfills certain other requirements. Prior to the enactment of Public Law 109-163, the provisions of 10 U.S.C. 2401 applied to vessels and aircraft; Section 815 of Public Law 109-163 amended 10 U.S.C. 2401 to also include combat vehicles. This proposed rule amends DFARS 207.470 to reflect the statutory provisions.

This rule was not subject to Office of Management and Budget review under Executive Order 12866, dated September 30, 1993.

B. Regulatory Flexibility Act

DoD does not expect this rule to have a significant economic impact on a substantial number of small entities within the meaning of the Regulatory Flexibility Act, 5 U.S.C. 601, et seq., because the rule relates primarily to DoD planning and budget considerations with regard to leasing of vessels, aircraft, and combat vehicles. Therefore, DoD has not performed an initial regulatory flexibility analysis. DoD invites comments from small businesses and other interested parties. DoD also will consider comments from small entities concerning the affected DFARS subpart in accordance with 5 U.S.C. 610. Such comments should be submitted separately and should cite DFARS Case 2006-D013.

C. Paperwork Reduction Act

The Paperwork Reduction Act does not apply, because the rule does not impose any information collection requirements that require the approval of the Office of Management and Budget under 44 U.S.C. 3501, et seq.

List of Subjects in 48 CFR Part 207

Government procurement.

Michele P. Peterson,
Editor, Defense Acquisition Regulations System.

Therefore, DoD proposes to amend 48 CFR part 207 as follows:

PART 207—ACQUISITION PLANNING

1. The authority citation for 48 CFR part 207 continues to read as follows:

Authority: 41 U.S.C. 421 and 48 CFR Chapter 1.

2. Section 207.470 is amended as follows:

a. By redesignating paragraphs (a) and (b) as paragraphs (b) and (c) respectively;

b. By adding a new paragraph (a); and

c. In newly designated paragraph (c), by removing “Except as provided in paragraph (a) of this section” and adding in its place “Except as provided in paragraphs (a) and (b) of this section”. The new paragraph (a) reads as follows:

207.470 Statutory requirements.

(a) Requirement for statutory authorization for certain contracts relating to vessels, aircraft, and combat vehicles. The contracting officer shall not enter into any contract for any vessel, aircraft, or combat vehicle, through a lease, charter, or similar agreement, or for services that provide for the use of the contractor's vessel, aircraft, or combat vehicle, unless—

(1) The head of the agency has satisfied the requirements of 10 U.S.C. 2401; and

(2)(i) The contract will be a long-term lease, charter, or similar agreement (10 U.S.C. 2401(d)(1)); or

(ii) The terms of the contract provide for a substantial termination liability (10 U.S.C. 2401(d)(2)).

* * * * *

[FR Doc. E7-9744 Filed 5-21-07; 8:45 am]

BILLING CODE 5001-08-P